DEPARTMENT OF ENERGY

Federal Energy Regulatory Commission

Notice of Application Accepted for Filing and Soliciting Motions to Intervene and Protests and Establishing Procedures for Relicensing

February 13, 2003.

Take notice that the following hydroelectric application has been filed with the Commission and is available for public inspection:

a. Type of Application: New Major License.

b. Project No.: 1979-012.

c. Date Filed: June 21, 2002.

d. Applicant: Wisconsin Public Service Corporation.

e. Name of Project: Alexander Hydroelectric Project.

f. Location: On the Wisconsin River near the City of Merrill, Lincoln County, Wisconsin. The project occupies 3.59 acres of public land administered by the Bureau of Land Management.

g. Filed Pursuant to: Federal Power Act 16 U.S.C. 791 (a)—825(r).

h. Applicant Contact: Mr. David W. Harpole, Wisconsin Public Service Corporation, 700 N. Adams Street, PO Box 19002, Green Bay, Wisconsin. 54307 (920) 433-1264.

i. FERC Contact: Michael Spencer, michael.spencer@FERC.fed.us, (202) 502-6093.

j. Deadline for filing motions to intervene and protests: 60 days from the issuance date of this notice.

All documents (original and eight copies) should be filed with: Magalie Salas, Secretary Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

The Commission's rules of practice and procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of Project: The existing project consists of: (1) A dam, described from east to west side as comprised of a gated spillway controlled by 11 Taintor gates each measuring 26-feet-wide and 15-feet-high, the powerhouse, a 385-foot-long concrete wall with earth backfill, and a 515-foot-long, 20-foot-high earthen embankment dam; (2) a reservoir with a surface area of 803 acres and, a 7,000 acre-foot storage volume at normal pond elevation; (3) the powerhouse contains three generating units with an total installed capacity of 4,200-kilowatts (4) a transmission substation; and (5) appurtenant facilities. The applicant estimates that the average annual generation is 23,550 megawatt-hours.

m. Locations of the application: A copy of the application is available for review at the Commission in the Public Reference Room or may be viewed on the Commission's Web site at http://www.ferc.gov using the “FERRIS” link. Enter the docket number excluding the three digits in the docket number field to access the document. For assistance, please contact FERC Online Support at FERCOnlineSupport@ferc.gov or toll-free at (866)208-3676, or for TTY, contact (202)502-8659. A copy is also available for inspection and reproduction at the address in item h above.

n. Procedural schedule: The application will be processed according to the following Hydro Licensing Schedule. Revisions to the schedule will be made if the Commission determines it necessary to do so.

Issue Scoping Document 1 for comments—March 2003.

Request Additional Information—May 2003.

Issue Scoping Document 2—August 2003.

Notice of application is ready for environmental analysis—August 2003.

Notice of the availability of the draft EA—December 2003.

Notice of the availability of the final EA—April 2004.

Ready for Commission's decision on the application—April 2004.

o. This notice also consists of the following standard paragraphs:

Protests or Motions to Intervene—Anyone may submit a protest or a motion to intervene in accordance with the requirements of rules of practice and procedure, 18 CFR 385.210, 385.211, and 385.214. In determining the appropriate action to take, the Commission will consider all protests filed, but only those who file a motion to intervene in accordance with the Commission's rules may become a party to the proceeding. Any protests or motions to intervene must be received on or before the specified deadline date for the particular application.

Filing and Service of Responsive Documents—All filings must (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 03-4119 Filed 2-19-03; 8:45 am]

BILLING CODE 6717-01-P